SECURITIES AND EXCHANGE COMMISSION

17 CFR Parts 240 and 249

[Release No. 34-63347; File No. S7-35-10]

RIN 3235-AK79

Security-Based Swap Data Repository Registration, Duties, and Core Principles; Correction

Correction

In proposed rule document C1-2010-29719 beginning on page 79320 in the issue of December 20, 2010, make the following correction:

On page 79320, in the second column, in instruction 5, footnote 165 is corrected to read as follows:

¹⁶⁵ See Public Law 111-203 (adding Exchange Act Section 13(n)(5)(D)(i)).

[FR Doc. C2-2010-29719 Filed 1-12-11; 8:45 am]

BILLING CODE 8011-01-P